OFFICE OF PERSONNEL MANAGEMENT

Submission for OMB Review; Comment Request for Review of a Revised Information Collection: RI 94-7

AGENCY: Office of Personnel Management.

ACTION: Notice.

SUMMARY: In accordance with the Paperwork Reduction Act of 1995 (Pub. L. 104-13, May 22, 1995), this notice announces that the Office of Personnel Management (OPM) has submitted to the Office of Management and Budget a request for review of a revised information collection. RI 94-7, Death Benefit Payment Rollover Election for Federal Employees Retirement System (FERS), provides FERS surviving spouses and former spouses with the means to elect payment of the FERS rollover-eligible benefits directly or to an Individual Retirement Arrangement.

Approximately 1,850 RI 94-7 forms will be completed annually. We estimate it takes approximately 60 minutes to complete the form. The annual estimated burden is 1,850 hours.

For copies of this proposal, contact Mary Beth Smith-Toomey on (202) 606-8358, FAX (202) 418-3251 or E-mail to mbtoomey@opm.gov. Please provide a mailing address with your request.

DATES: Comments on this proposal should be received on or before August 6, 2001.

ADDRESSES: Send or deliver comments to:

John C. Crawford, Chief,FERS Division,Retirement and Insurance Service,U.S. Office of Personnel Management, 1900 E Street, NW, Room 3313,Washington, DC 20415; and

Joseph Lackey,OPM Desk Officer,Office of Information & Regulatory Affairs,Office of Management & Budget,New Executive Office Building, NW,Room 10235,Washington, DC 20503.

For Information Regarding Administrative Coordination Contact:Donna G. Lease, Team Leader,Forms Analysis and Design,Budget and Administrative Services Division,(202) 606-0623,Office of Personnel Management.

Steven R. Cohen,
Acting Director.

[FR Doc. 01-16805 Filed 7-3-01; 8:45 am]

BILLING CODE 6325-50-P